DEPARTMENT OF HOUSING AND URBAN DEVELOPMENT

[Docket No. FR-4815-N-49]

Notice of Submission of Proposed Information Collection to OMB: Grant Application Standard Logic Model

AGENCY: Office of the Chief Information Officer, HUD.

ACTION: Notice.

SUMMARY: The proposed information collection requirement described below will be submitted to the Office of Management and Budget (OMB) for review, as required by the Paperwork Reduction Act. The submission is a request for extension of the current approval to collect information on baseline performance standards. This information replaced various reporting requirements and places greater emphasis on performance and results in grant programs.

The Department is soliciting public comments on the subject proposal.

DATES: Comments Due Date: October 3, 2003.

ADDRESSES: Interested persons are invited to submit comments regarding this proposal. Comments should refer to the proposal by name and/or OMB approval number (2535-0114) and should be sent to: Wayne Eddins, Reports Management Officer, AYO, Department of Housing and Urban Development, 451 Seventh Street, Southwest, Washington, DC 20410; e-mail Wayne_Eddins@HUD.gov.

FOR FURTHER INFORMATION CONTACT: Barbara Dorf, Director Office of Grants Management and Oversight, AJT, or Dorthera M. Yorkshire, Program Analyst, Office of Grants Management and Oversight, AJT, Department of Housing and Urban Development, 451 Seventh Street, SW, Washington, DC 20410; e-mail Barbara_Dorf@hud.gov; or Dorthera_Yorkshire@hud.gov; telephone (202) 708-0667. This is not a toll-free number. Copies of available documents submitted to OMB may be obtained from Ms. Yorkshire.

SUPPLEMENTARY INFORMATION: The Department has submitted the proposal for the collection of information, as described below, to OMB for review, as required by the Paperwork Reduction Act (44 U.S.C. chapter 35). The Notice lists the following information: (1) The title of the information collection proposal; (2) the office of the agency to collect the information; (3) the OMB approval number, if applicable; (4) the description of the need for the information and its proposed use; (5) the agency form number, if applicable; (6) what members of the public will be affected by the proposal; (7) how frequently information submissions will be required; (8) an estimate of the total number of hours needed to prepare the information submission including number of respondents, frequency of response, and hours of response; (9) whether the proposal is new, an extension, reinstatement, or revision of an information collection requirement; and (10) the name and telephone number of an agency official familiar with the proposal and of the OMB Desk Officer for the Department.

This Notice also lists the following information:

Title of Proposal: Grant Application Standard Logic Model.

OMB Approval Number: 2535-0114.

Form Numbers: Form HUD-96010.

Description of the Need for the Information and its Proposed Use: Applicants of HUD Federal Financial Assistance will be required to indicate intended results and impacts. Grant recipients must report against baseline performance standards. This standardizes grants progress reporting requirements and promotes greater emphasis on performance and results in grant programs.

Respondents: Individuals, Not-for-profit institutions, State, Local or Tribal Government, Business or other for-profit.

Frequency of Submission: On occasion.

Reporting Burden: This information collection is estimated to total one hour per submission. Of the estimated 11,000 grant applicant/recipients, approximately 6,600 report quarterly and 4,400 report annually. Total annual reporting burden is estimated to 30,800 hours.

Total Estimated Burden Hours: 30,800.

Status: Extension of a currently approved collection.

Authority: Section 3507 of the Paperwork Reduction Act of 1995, 44 U.S.C. 35, as amended.

Dated: July 29, 2003.
Wayne Eddins,
Departmental Reports Management Officer, Office of the Chief Information Officer.

[FR Doc. 03-19792 Filed 8-1-03; 8:45 am]

BILLING CODE 4210-72-P